DEPARTMENT OF COMMERCE

International Trade Administration

[A-570-970]

Multilayered Wood Flooring From the People's Republic of China: Correction to the Final Results of Antidumping Duty Administrative Review; 2015-2016

AGENCY: Enforcement and Compliance, International Trade Administration, Department of Commerce.

DATES: Applicable September 7, 2018.

FOR FURTHER INFORMATION CONTACT: Michael Bowen, AD/CVD Operations, Office VIII, Enforcement and Compliance, International Trade Administration, U.S. Department of Commerce, 1401 Constitution Avenue NW, Washington, DC 20230; telephone: 202-482-0768.

SUPPLEMENTARY INFORMATION: On July 26, 2018, the Department of Commerce (Commerce) published the Final Results of the 2015-2016 administrative review of the antidumping duty order on multilayered wood flooring from the People's Republic of China (China).¹ The period of review (POR) is December 1, 2015, through November 30, 2016. Commerce is issuing this notice to correct a ministerial error in the Final Results, and to amend the partial rescission of certain companies from the administrative review to include Double F Limited. Specifically, in the Final Results, Commerce inadvertently misspelled Dalian Guhua Wooden Product Co., Ltd.'s name as Dalian Guhua Wood Product Co., Ltd. Commerce corrected this error in the cash deposit and liquidation instructions issued to U.S. Customs and Border Protection following the publication of the Final Results. Further, in accordance with the Court of International Trade's August 15, 2018, order amending the Court's July 3, 2018, judgment in Changzhou Hawd Flooring Co., Ltd., et al. v. United States,² we excluded Double F Limited from the antidumping duty order on multilayered wood flooring from China.³ Accordingly, we are amending the Final Results to include Double F Limited among the companies for which this review was rescinded.⁴ Commerce intends to issue rescission instructions including Double F Limited to U.S. Customs and Border Protection, as appropriate.

¹ See Multilayered Wood Flooring from the People's Republic of China: Final Results of Antidumping Duty Administrative Review, Final Determination of No Shipments, and Partial Rescission; 2015-2016, 83 FR 35461 (July 26, 2018) (Final Results).

² See Changzhou Hawd Flooring Co., et al. v. United States, Ct. No. 12-20, Slip Op. 18-82 (Court of Int'l Trade July 3, 2018); see also Changzhou Hawd Flooring Co., et al. v. United States, Ct. No. 12-20, Dkt. No. 199 (Court of Int'l Trade Aug. 15, 2018).

³ See Multilayered Wood Flooring from the People's Republic of China: Amendment to Notice of Court Decision Not in Harmony with the Second Amended Final Determination and Amendment to Notice of Third Amended Final Determination of the Antidumping Duty Investigation, 83 FR 44027 (August 29, 2018).

⁴ See Final Results at 35462.

This determination is issued and published in accordance with sections 751(a)(1) and 777(i)(1) of the Act and 19 CFR 351.221(b)(5).

Dated: August 31, 2018.
Gary Taverman,
Deputy Assistant Secretary for Antidumping and Countervailing Duty Operations, performing the non-exclusive functions and duties of the Assistant Secretary for Enforcement and Compliance.

[FR Doc. 2018-19423 Filed 9-6-18; 8:45 am]

BILLING CODE 3510-DS-P